COMMITTEE FOR PURCHASE FROM PEOPLE WHO ARE BLIND OR SEVERELY DISABLED

Procurement List Proposed Additions

AGENCY: Committee for Purchase From People Who Are Blind or Severely Disabled.

ACTION: Proposed additions to the Procurement List.

SUMMARY: The Committee is proposing to add products and a service to the Procurement List that will be furnished by nonprofit agencies employing persons who are blind or have other severe disabilities.

Comments Must Be Received on or Before: August 20, 2012.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 8501-8506) in connection with the products and service proposed for addition to the Procurement List.

Comments on this certification are invited. Commenters should identify the statement(s) underlying the certification on which they are providing additional information.

End of Certification

The following products and service are proposed for addition to Procurement List for production by the nonprofit agencies listed:

Products

NSN: 8455-00-NIB-0007—Neck Lanyard, Cord Style, Swivel Hook, Black, 36″ x .25″

NSN: 8455-00-NIB-0020—Neck Lanyard, Cord Style, Shielded Cardholder, Black, 36″ x .25″

NSN: 8455-00-NIB-0021—Neck Lanyard, Strap Style, Swivel Hook, Black, 36″ x .75″

NSN: 8455-00-NIB-0022—Neck Lanyard, Strap Style, Clip, Black, 36″ x .75″

NSN: 8455-00-NIB-0023—Neck Lanyard, Strap Style, Retractable Reel, Black, 36″ x .75″

NSN: 8455-00-NIB-0024—Neck Lanyard, Strap Style, Key Ring, Black, 36″ x .75″

Coverage: A-List for the Total Government Requirement as aggregated by the General Services Administration.

NSN: 8455-00-NIB-0005—Neck Lanyard, Cord Style, Clip, Black, 36″ x .25″

NSN: 8455-00-NIB-0031—Identification Card Holder, Opaque, 2.375″ x 3.5″

Coverage: B-List for the Broad Government Requirement as aggregated by the General Services Administration.

NPA: West Texas Lighthouse for the Blind, San Angelo, TX

Contracting Activity: General Services Administration, Fort Worth, TX

Privacy Filters With Frames

NSN: 7045-00-NIB-0377—17.0″

NSN: 7045-00-NIB-0378—19.0″

NSN: 7045-00-NIB-0389—22.0″ Widescreen

NSN: 7045-00-NIB-0390—19.0″ Widescreen

NSN: 7045-00-NIB-0391—24.0″ Widescreen

NPA: Wiscraft, Inc., Milwaukee, WI

Contracting Activity: General Services Administration, New York, NY

Coverage: A-List for the Total Government Requirement as aggregated by the General Services Administration.

Service

Service Type/Location: Custodial/Janitorial Services, Vancouver US Armed Forces Reserve Center (AFRC)/WA070, 15005 NE 65th Street, Vancouver, WA.

NPA: Portland Habilitation Center, Inc., Portland, OR

Contracting Activity: Dept of the Army, W6QM MICC-ARCC North, Fort McCoy, WI

Barry S. Lineback,
Director, Business Operations.

[FR Doc. 2012-17707 Filed 7-19-12; 8:45 am]

BILLING CODE 6353-01-P